Title 3—

The President

Proclamation 7370 of November 5, 2000

National Family Caregivers Month, 2000

By the President of the United States of America

A Proclamation

All Americans owe a debt of gratitude to the family caregivers among us—the generous, compassionate individuals who daily face the challenge of caring for loved ones who are frail, chronically ill, or living with disabilities that restrict their independence. These everyday heroes, living quietly among us in families and communities across the country, are the major source of long-term care in America. By providing billions of dollars' worth of caregiving services each year, they dramatically reduce the demands on our Nation's health care system and make an extraordinary contribution to the quality of life of their loved ones.

Caregivers often pay an emotional and physical price as well as a financial one. Few enjoy any free time because they must juggle the demands of home and work while meeting the special needs of the individuals in their care. Many do not have the support of other family members or friends and consequently experience depression, a sense of isolation, and the stress of knowing they must carry out their important duties alone. Studies have indicated that such caregiver stress can have a physical consequence, contributing to a higher mortality rate among elderly caregivers who themselves have a history of chronic illness.

But caregivers should not have to face their challenges alone, and my Administration has worked hard to ensure that they will not have to do so. I am pleased that the Congress has finally passed the Older Americans Act Amendments of 2000, which will strengthen and improve the services available to senior citizens in every State, from home-delivered meals to transportation services to legal assistance. This legislation also includes authorization for our new National Family Caregiver Support Program, which will provide quality respite care and other support services to hundreds of thousands of families who are struggling to care for loved ones.

The Long-Term Care Security Act that I signed into law in September authorizes the Office of Personnel Management to negotiate with private insurers to offer more affordable, high-quality, long-term care insurance policies to Federal employees, retirees, and their families. This initiative will help some 13 million Americans better prepare for the future and ease the fear of having to deplete their life savings to care for a loved one.

We must also help families who need long-term care assistance right now. I continue to call on the Congress to provide a $3,000 tax credit for the millions of Americans with long-term care needs and the families who care for them. Passage of a new, voluntary Medicare prescription drug benefit would also go a long way toward easing the financial burden on family caregivers.

Caregiving touches us all, either within our own families or within our communities. As we observe National Family Caregivers Month, let us thank the millions of devoted men and women across our Nation who enable our loved ones who are frail, chronically ill, or living with disabilities to live in dignity in the warmth and familiarity of home.

NOW, THEREFORE, I, WILLIAM J. CLINTON, President of the United States of America, by virtue of the authority vested in me by the Constitution and laws of the United States, do hereby proclaim November 2000 as National Family Caregivers Month. I call upon all Americans to acknowledge and honor the contributions of caregivers to the quality of our national life.

IN WITNESS WHEREOF, I have hereunto set my hand this fifth day of November, in the year of our Lord two thousand, and of the Independence of the United States of America the two hundred and twenty-fifth.

wj

[FR Doc. 00-28884

Filed 11-7-00; 8:45 am]

Billing code 3195-01-P